DEPARTMENT OF COMMERCE

International Trade Administration

[A-533-847, A-570-934]

1-Hydroxyethylidene-1, 1-Diphosphonic Acid from India and the People's Republic of China: Antidumping Duty Orders

AGENCY: Import Administration, International Trade Administration, Department of Commerce.

SUMMARY: Based on affirmative final determinations by the Department of Commerce (the Department) and the International Trade Commission (the Commission), the Department is issuing antidumping duty orders on 1-Hydroxyethylidene-1, 1-Diphosphonic Acid (HEDP) from India and the People's Republic of China (PRC). On April 17, 2009, the Commission notified the Department of its affirmative determination of threat of material injury to a U.S. industry. See 1-Hydroxyethylidene-1, 1-Diphosphonic Acid from China and India (Investigation Nos. 731-TA-1146 and 731-TA-1147 (Final), USITC Publication 4072, April 2009).

EFFECTIVE DATE: April 28, 2009.

FOR FURTHER INFORMATION CONTACT: Brian C. Smith (India) or Shawn Higgins (PRC), AD/CVD Operations, Offices 2 and 4, Import Administration, International Trade Administration, U.S. Department of Commerce, 14th Street and Constitution Avenue, NW, Washington, DC 20230; telephone: (202) 482-1766 or (202) 482-0679, respectively.

SUPPLEMENTARY INFORMATION:

Background

On March 11, 2009, the Department published its affirmative final determinations of sales at less-than-fair-value in the antidumping duty investigations of HEDP from India and the PRC. See 1-Hydroxyethylidene-1, 1-Diphosphonic Acid from India: Notice of Final Determination of Sales at Less Than Fair Value, 74 FR 10543 (March 11, 2009); and 1-Hydroxyethylidene-1, 1-Diphosphonic Acid from the People's Republic of China: Notice of Final Determination of Sales at Less Than Fair Value, 74 FR 10545 (March 11, 2009).

On April 17, 2009, the Commission notified the Department of its final determination pursuant to section 735(d) of the Tariff Act of 1930, as amended (the Act), that an industry in the United States is threatened with material injury by reason of less-than-fair-value imports of HEDP from India and the PRC. See section 735(b)(1)(A)(ii) of the Act.

Scope of the Orders

The merchandise subject to these orders includes all grades of aqueous, acidic (non-neutralized) concentrations of 1-hydroxyethylidene-1, 1-diphosphonic acid,¹ also referred to as hydroxethlylidenediphosphonic acid, hydroxyethanediphosphonic acid, acetodiphosphonic acid, and etidronic acid. The CAS (Chemical Abstract Service) registry number for HEDP is 2809-21-4. The merchandise subject to these orders is currently classified in the Harmonized Tariff Schedule of the United States (HTSUS) at subheading 2931.00.9043. It may also enter under HTSUS subheading 2811.19.6090. While HTSUS subheadings are provided for convenience and customs purposes only, the written description of the scope of these orders is dispositive.

¹ C2H8O7P2 or C(CH3)(OH)(PO3H2)2

Antidumping Duty Orders

On April 17, 2009, in accordance with section 735(d) of the Act, the Commission notified the Department of its final determination that an industry in the United States is threatened with material injury within the meaning of section 735(b)(1)(A)(ii) of the Act by reason of less-than-fair-value imports of HEDP from India and the PRC.

In accordance with section 736(a)(1) of the Act, the Department will direct U.S. Customs and Border Protection (CBP) to assess, upon further advice by the Department, antidumping duties equal to the amount by which the normal value of the merchandise exceeds the export price (or constructed export price) of the merchandise for all relevant entries of HEDP from India and the PRC.

Pursuant to section 736(b)(2) of the Act, duties shall be assessed on subject merchandise entered, or withdrawn from warehouse, for consumption on or after the date of publication of the Commission's notice of final determination if that determination is based on the threat of material injury, other than threat of material injury described in section 736(b)(1) of the Act. Section 736(b)(1) states that “{i}f the Commission, in its final determination under section 735(b), finds material injury or threat of material injury which, but for the suspension of liquidation under section 733(d)(2) would have led to a finding of material injury, then entries of the subject merchandise, the liquidation of which has been suspended under section 733(d)(2), shall be subject to the imposition of antidumping duties under section 731.” In addition, section 736(b)(2) of the Act requires CBP to release any bond or other security, and refund any cash deposit made of estimated antidumping duties posted since the Department's preliminary antidumping duty determinations.

Because the Commission's final determination is based on the threat of material injury and is not accompanied by a finding that injury would have resulted but for the imposition of suspension of liquidation of entries since the Department's preliminary determinations, section 736(b)(c) of the Act is applicable. According to section 736(b)(2) of the Act, duties shall only be assessed on subject merchandise entered, or withdrawn from warehouse, for consumption on or after the date of publication of the Commission's notice of final determination. In addition, section 736(b)(2) of the Act requires CBP to refund any cash deposits or bonds of estimated antidumping duties posted since the preliminary antidumping determinations and prior to the Commission's notice of final determination.

Therefore, with the exception of HEDP manufactured and exported by Nanjing University of Chemical Technology Changzhou Wujin Water Quality Stabilizer Factory Ltd. (a company excluded from the PRC order), these antidumping duties will be assessed on all unliquidated entries of HEDP from India and the PRC entered, or withdrawn from warehouse, for consumption on or after April 23, 2009, the date of publication of the Commission's notice of final determination of threat of material injury in the Federal Register, in accordance with the following dumping margins.

Country | Manufacturer/Exporter | Weighted-Average Margin (percent)
India | Aquapharm Chemicals Private Limited | 3.10
| All-Others | 3.10
PRC | Changzhou Wujin Fine Chemical Factory Co., Ltd.² | 36.21
| Jiangsu Jianghai Chemical Group Co., Ltd.³ | 36.21
| PRC-Wide Rate⁴ | 72.42
² Changzhou Wujin Fine Chemical Factory Co., Ltd. manufactures and exports subject merchandise.
³ Jiangsu Jianghai Chemical Group Co., Ltd. manufactures and exports subject merchandise.
⁴ The PRC-wide entity includes Changzhou Kewei Fine Chemical Factory.

On or after the date of publication of the Commission's notice of final determination in the Federal Register, CBP must require, pursuant to section 736(a)(3) of the Act, at the same time as importers would normally deposit estimated duties on this merchandise, a cash deposit equal to the estimated dumping margins listed above. The PRC-wide rate applies to all PRC exporters of subject merchandise not specifically listed.

The Department will also instruct CBP to terminate the suspension of liquidation for entries of HEDP from India and the PRC entered, or withdrawn from warehouse, for consumption prior to April 23, 2009, and refund any cash deposits made and release any bonds posted between the publication of the Department's preliminary determinations⁵ on October 18, 2008, and the publication of the Commission's final determination on April 23, 2009.

⁵ See 1-Hydroxyethylidene-1, 1-Diphosphonic Acid from India: Notice of Preliminary Determination of Sales at Less Than Fair Value and Postponement of Final Determination,73 FR 62465 (October 21, 2008); and 1-Hydroxyethylidene-1, 1-Diphosphonic Acid from the People's Republic of China: Preliminary Determination of Sales at Less Than Fair Value and Postponement of Final Determination, 73 FR 62470 (October 21, 2008).

This notice constitutes the antidumping duty orders with respect to HEDP from India and the PRC, pursuant to section 736(a) of the Act. Interested parties may contact the Department's Central Records Unit, Room 1117 of the Main Commerce Building, for copies of an updated list of antidumping duty orders currently in effect.

These orders are issued and published in accordance with section 736(a) of the Act and 19 CFR 351.211(b).

Dated: April 22, 2009.
Ronald K. Lorentzen,
Acting Assistant Secretary for Import Administration.

[FR Doc. E9-9679 Filed 4-27-09; 8:45 am]

BILLING CODE 3510-DS-S